DEPARTMENT OF THE INTERIOR

National Park Service

Notice of Inventory Completion for Native American Human Remains and Associated Funerary Objects in the Possession of the Milwaukee Public Museum, Milwaukee, WI

AGENCY: National Park Service, Interior.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology in consultation with representatives of the Zuni Tribe of the Zuni Reservation, New Mexico, and the Hopi Tribe of Arizona.

At an unknown date, human remains representing one individual were removed from a grave in an unknown location near Frisco, Catron County, NM, by an unknown person. These human remains were donated to the Milwaukee Public Museum by Mary E. Stewart in 1899. Ms. Stewart also donated human hair, believed to be from the same individual, to the Milwaukee Public Museum in 1901. No known individual was identified. No associated funerary objects are present.

While the exact age of the remains cannot be determined from existing evidence, cranial deformation associated with the use of hard cradleboards was noted and suggests a post-AD 700 date.

Based on cranial morphology and dental traits, these human remains are identified as Native American. Consultation evidence provided by representatives of the Zuni Tribe of the Zuni Reservation, New Mexico, and the Hopi Tribe of Arizona indicates that the geographical location of the burial is consistent with the traditional territories of the Zuni and Hopi peoples. Both groups claim descent from the archeologically defined Anasazi culture in Catron County, NM.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the Zuni Tribe of the Zuni Reservation, New Mexico, and the Hopi Tribe of Arizona.

This notice has been sent to officials of the Zuni Tribe of the Zuni Reservation, New Mexico, and the Hopi Tribe of Arizona. Representatives of any other Indian tribe that believes itself to be culturally affiliated with these human remains should contact Dr. Alex Barker, Anthropology Section Head, Milwaukee Public Museum, 800 West Wells Street, Milwaukee, WI 53233, telephone (414) 278-2786, before April 24, 2002. Repatriation of the human remains to the Zuni Tribe of the Zuni Reservation, New Mexico, and the Hopi Tribe of Arizona may begin after that date if no additional claimants come forward.

Dated: February 7, 2002.
Robert Stearns,
Manager, National NAGPRA Program.

[FR Doc. 02-7010 Filed 3-22-02; 8:45 am]

BILLING CODE 4310-70-S